FEDERAL ELECTION COMMISSION

[Notice 2007-27]

2008 Presidential Candidate Matching Fund Submission Dates and Post Date of Ineligibility Dates To Submit Statements of Net Outstanding Campaign Obligations; (Authority: 11 CFR 9036.2; 11 CFR 9034.5)

AGENCY: Federal Election Commission.

ACTION: Notice of matching fund submission dates and submission dates for statements of net outstanding campaign obligations for 2008 presidential candidates.

SUMMARY: The Federal Election Commission is publishing matching fund submission dates for publicly funded 2008 presidential primary candidates. Eligible candidates may present one submission and/or resubmission per month on the designated date. The Commission is also publishing the dates on which publicly funded 2008 presidential primary candidates must submit their statements of net outstanding campaign obligations (“NOCO statements”) after their dates of ineligibility (“DOI”). Candidates are required to submit a NOCO statement prior to each regularly scheduled date on which they receive Federal matching funds, on dates set forth in the Supplementary Information below.

FOR FURTHER INFORMATION CONTACT: Ms. Wanda Thomas, Audit Division, 999 E Street, NW., Washington, DC 20463, (202) 694-1200 or (800) 424-9530.

SUPPLEMENTARY INFORMATION:

Matching Fund Submissions

Presidential candidates eligible to receive Federal matching funds may present submissions and/or resubmissions to the Federal Election Commission once a month on designated submission dates. The Commission will review the submissions/resubmissions and forward certifications for eligible candidates to the Secretary of Treasury. Because no payments can be made during 2007, submissions received during 2007 will be certified in late December 2007, for payment in 2008. 11 CFR 9036.2(c). Treasury Department regulations require that funds for the convention and general election grants be set aside before any matching fund payments are made. Information provided by the Treasury Department shows the balance in the fund as of October 31, 2007 was $165,383,063 and the Commission estimates that no funds will be available for matching payments in January 2008. As deposits are made from tax returns in the early months of 2008, matching fund payments will be made from those deposits until all certified amounts have been paid. During 2008 and 2009, certifications will be made on a monthly basis. The last date a candidate may make a submission is March 2, 2009.

The submission dates specified in the following list pertain to non-threshold matching fund submissions and resubmissions after the candidate establishes eligibility. The threshold submission on which that eligibility will be determined may be filed at any time and will be processed within fifteen business days, unless review of the threshold submission determines that eligibility has not been met.

NOCO Submissions

Under 11 CFR 9034.5, a candidate who received Federal matching funds must submit a NOCO statement to the Commission within 15 calendar days after the candidate's date of ineligibility, as determined under 11 CFR 9033.5. The candidate's net outstanding campaign obligations is equal to the total of all outstanding obligations for qualified campaign expenses plus estimated necessary winding down costs less cash on hand, the fair market value of capital assets, and accounts receivable. 11 CFR 9034.5(a). Candidates will be notified of their DOI by the Commission.

A Candidate who has net outstanding campaign obligations post-DOI may continue to submit matching payment requests as long as the candidate certifies that the remaining net outstanding campaign obligations equal or exceed the amount submitted for matching. 11 CFR 9034.5(f)(1). If the candidate so certifies, the Commission will process the request and certify the appropriate amount of matching funds.

Candidates must also file revised NOCO statements in connection with each matching fund request submitted after the candidate's DOI. These statements are due just before the next regularly scheduled payment date, on a date to be determined by the Commission. They must reflect the financial status of the campaign as of the close of business three business days before the due date of the statement and must also contain a brief explanation of each change in the committee's assets and obligation from the most recent NOCO statement. 11 CFR 9034.5(f)(2).

The Commission will review the revised NOCO statement and adjust the committee's certification to reflect any change in the committee's financial position that occurs after submission of the matching payment request and the date of the revised NOCO statement.

The following schedule includes both matching fund submission dates and submission dates for revised NOCO statements.

Schedule of Matching Fund Submission Dates and Dates To Submit Revised Statements of Net Outstanding Campaign Obligations (NOCO) for 2008 Presidential Candidates
Matching fund submission dates | Revised NOCO submission dates
January 2, 2008 | December 24, 2007.
February 1, 2008 | January 25, 2008.
March 3, 2008 | February 25, 2008.
April 1, 2008 | March 25, 2008.
May 1, 2008 | April 24, 2008.
June 2, 2008 | May 23, 2008.
July 1, 2008 | June 24, 2008.
August 1, 2008 | July 25, 2008.
September 2, 2008 | August 25, 2008.
October 1, 2008 | September 25, 2008.
November 3, 2008 | October 27, 2008.
December 1, 2008 | November 21, 2008.
January 5, 2009 | December 26, 2008.
February 2, 2009 | January 26, 2009.
March 2, 2009 | February 23, 2009.

Dated: December 17, 2007.
Robert D. Lenhard,
Chairman, Federal Election Commission.

[FR Doc. E7-24791 Filed 12-20-07; 8:45 am]

BILLING CODE 6715-07-P